DEPARTMENT OF JUSTICE

Drug Enforcement Administration

Manufacturer of Controlled Substances; Notice of Application

Pursuant to section 1301.33(a) of title 21 of the Code of Federal Regulations (CFR), this is notice that on February 19, 2003, AccuStandard Inc., 125 Market Street, New Haven, Connecticut 06513, made application by renewal and on May 7, 2003, by letter, to the Drug Enforcement Administration (DEA) for registration as a bulk manufacturer of the basic classes of Schedule I and II controlled substances listed below:

Drug | Schedule
Cathinone (1235) | I
Methcathinone (1237) | I
N-Ethylamphetamine (1475) | I
N,N-Dimethylamphetamine (1480) | I
Fenethylline (1503) | I
Aminorex (1585) | I
4-Methylaminorex (cis isomer) | I
Gamma hydroxybutyric acid (2010) | I
Methaqualone (2565) | I
Mecloqualone (2572) | I
Alpha-Ethyltryptamine (7249) | I
Ibogaine (7260) | I
Lysergic acid diethylamide (7315) | I
Tetrahydrocannabinols (7370) | I
Mescaline (7381) | I
3,4,5-Trimethoxyamphetamine (7390) | I
4-Bromo-2,5-dimethoxyamphetamine (7391) | I
4-Bromo-2,5-dimethoxyamphetamine (7392) | I
4-Methyl-2,5-dimethoxyamphetamine (7395) | I
2,5-Dimethoxyamphetamine (7396) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
Bufotenine (7433) | I
Diethyltryptamine (7434) | I
Dimethyltryptamine (7435) | I
Psilocybin (7437) | I
Psilocyn (7438) | I
N-Ethyl-1-phenylcyclohexylamine (7455) | I
1-(1-Phenylcyclohexyl) pyrrolidine (PCPY) (7458) | I
1-[1-(2-Thienyl) cyclohexyl] piperidine (7470) | I
1-[1-(2-Thienyl) cyclohexyl] pyrrolidine (TCPY) (7473) | I
N-Ethyl-3-piperidyl benzilate (7482) | I
N-Methyl-3-Piperidyl benzilate (7484) | I
Acetyldihydrocodeine (9051) | I
Benzylmorphine (9052) | I
Codeine-N-oxide (9053) | I
Cyprenorphine (9054) | I
Desomorphine (9055) | I
Etorphine (except HCL) (9056) | I
Codeine methylbromide (9070) | I
Dihydromorphine (9145) | I
Difenoxin (9168) | I
Heroin (9200) | I
Hydromorphinol (9301) | I
Methyldesorphine (9302) | I
Methyldihydromorphine (9304) | I
Morphine methylbromide (9305) | I
Morphine methylsulfonate (9306) | I
Morphine-N-oxide (9307) | I
Myrophine (9308) | I
Nicocodeine (9309) | I
Nicomorphine (9312) | I
Normorphine (9313) | I
Pholcodine (9314) | I
Thebacon (9315) | I
Acetorphine (9319) | I
Drotebanol (9335) | I
Acetylmethadol (9601) | I
Allylprodine (9602) | I
Alphacetylmethadol except levo-alphacetylmethadol (9603) | I
Alphameprodine (9604) | I
Alphamethadol (9605) | I
Benzethidine (9606) | I
Betacetylmethadol (9607) | I
Betameprodine (9608) | I
Betamethadol (9609) | I
Betaprodine (9611) | I
Clonitazene (9612) | I
Dextromoramide (9613) | I
Diampromide (9615) | I
Diethylthiambutene (9616) | I
Dimenoxadol (9617) | I
Dimepheptanol (9618) | I
Dimethylthiambutene (9619) | I
Dioxaphetyl butyrate (9621) | I
Dipipanone (9622) | I
Ethylmethylthiambutene (9623) | I
Etonitazene (9624) | I
Etoxeridine (9625) | I
Furethidine (9626) | I
Hydroxypethidine (9627) | I
Ketobemidone (9628) | I
Levomoramide (9629) | I
Levophenacylmorphan (9631) | I
Morpheridine (9632) | I
Noracymethadol (9633) | I
Norlevorphanol (9634) | I
Normethadone (9635) | I
Norpipanone (9636) | I
Phenadoxone (9637) | I
Phenampromide (9638) | I
Phenoperidine (9641) | I
Piritramide (9642) | I
Proheptazine (9643) | I
Properidine (9644) | I
Racemoramide (9645) | I
Trimeperidine (9646) | I
Phenomorphan (9647) | I
Propiram (9649) | I
1-Methyl-4-phenyl-4-propionoxypiperidine (9661) | I
1-(2-Phenylethyl)-4-phenyl-4-acetoxypiperidine (9663) | I
Tilidine (9750) | I
Para-Fluorofentanyl (9812) | I
3-Methylfentanyl (9813) | I
Alpha-Methylfentanyl (9814) | I
Acetyl-alpha-methylfentanyl (9815) | I
Benzylfentanyl (9818) | I
Beta-Hydroxyfentanyl (9830) | I
Beta-Hydroxy-3-methylfentanyl (9831) | I
Alpha-Methylthiofentanyl (9832) | I
3-Methylthiofentanyl (9833) | I
Thenylfentanyl (9834) | I
Thiofentanyl (9835) | I
Amphetamine (1100) | II
Methamphetamine (1105) | II
Phenmetrazine (1631) | II
Methylphenidate (1724) | II
Amobarbital (2125) | II
Pentobarbital (2270) | II
Secobarbital (2315) | II
Glutethimide (2550) | II
Nabilone (7379) | II
1-Phenylcylohexylamine (7460) | II
Phencyclidine (7471) | II
Phenylacetone (8501) | II
1-Piperidinocyclohexanecarbonitrile (8603) | II
Alphaprodine (9010) | II
Anileridine (9020) | II
Cocaine (9041) | II
Codeine (9050) | II
Diprenorphine (9058) | II
Etorphine HCL (9059) | II
Dihydrocodeine (9120) | II
Oxycodone (9143) | II
Hydromorphone (9150) | II
Diphenoxylate (9170) | II
Benzoylecgonine (9180) | II
Ecgonine (9180) | II
Ethylmorphine (9190) | II
Hydrocodone (9193) | II
Levomethorphan (9210) | II
Levorphanol (9220) | II
Isomethadone (9226) | II
Meperidine (9230) | II
Meperidine intermediate-A (9232) | II
Meperidine intermediate-B (9233) | II
Meperidine intermediate-C (9234) | II
Metazocine (9240) | II
Methadone (9250) | II
Methadone intermediate (9254) | II
Metopon (9260) | II
Morphine (9300) | II
Thebaine (9333) | II
Dihydroetorphine (9334) | II
Opium, raw (9600) | II
Opium tincture (9630) | II
Opium powdered (9639) | II
Levo-alphacetylmethadol (9648) | II
Oxymorphone (9652) | II
Phenazocine (9715) | II
Piminodine (9730) | II
Racemethorphan (9732) | II
Racemorphan (9733) | II
Alfentanil (9737) | II
Remifentanil (9739) | II
Sufentanil (9740) | II
Carfentanil (9743) | II
Bezitramide (9800) | II
Fentalyl (9801) | II
Moramide-intermediate (9802) | II

The firm plans to manufacture small quantities of bulk material for use in reference standards.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: DEA Federal Register Representative (CCD) and must be filed no later than August 18, 2003.

Dated: June 6, 2003.
Laura M. Nagel,
Deputy Assistant Administrator, Office of Diversion Control, Drug Enforcement Administration.

[FR Doc. 03-15534 Filed 6-18-03; 8:45 am]

BILLING CODE 4410-09-M